SURFACE TRANSPORTATION BOARD

[Docket No. FD 36265]

San Francisco Bay Railroad, Inc.—Lease and Operation Exemption—San Francisco Port Commission

San Francisco Bay Railroad, Inc. (SFBR), a Class III rail carrier, has filed a verified notice of exemption under 49 CFR 1150.41 for the extension of its lease and operation of trackage of the San Francisco Port Commission (the Port) from a connection with the Union Pacific Railroad Company (UP) near the intersection of Amador Street and Cargo Way through the Intermodal Container Transfer Facility and to Piers 92, 94, and 96, a distance of approximately 0.5 route miles and approximately 16,750 track feet in San Francisco, Cal. (the Lines). SFBR states that the Lines do not have mileposts.¹

¹ SFBR, under a different name at the time, obtained authority to operate over the Lines in 2001 related to a previous lease agreement. LB Railco, Inc.—Lease & Operation Exemption—S.F. Port Comm'n, FD 33985 (STB served Jan. 8, 2001).

SFBR states that, pursuant to agreements between it and the Port, SFBR will extend its lease and license to operate over the Lines until December 31, 2033, with a mutual extension option to December 31, 2038. SFBR verifies that its lease with the Port does not involve a limitation on SFBR's interchange with a third-party connecting carrier and that UP is the only such connecting carrier.

SFBR certifies that its projected annual revenues will not result in the creation of a Class I or II rail carrier and that the projected annual rail revenue of SFBR does not exceed $5 million.

The transaction may be consummated on or after March 2, 2019, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than February 22, 2018 (at least seven days before the exemption becomes effective).

An original and 10 copies of all pleadings, referring to Docket No. FD 36265, must be filed with the Surface Transportation Board, 395 E Street SW, Washington, DC 20423-0001. In addition, one copy of each pleading must be served on Thomas J Litwiler, Fletcher & Sippel LLC, 29 North Wacker Drive, Suite 800, Chicago, Ill. 60606-3208.

According to SFBR, this action is excluded from environmental review under 49 CFR 1105.6(c) and from historic reporting requirements under 49 CFR 1105.8(b).

Board decisions and notices are available at www.stb.gov.

Decided: February 12, 2018.
By the Board, Scott M. Zimmerman, Acting Director, Office of Proceedings.
Brendetta Jones,
Clearance Clerk.

[FR Doc. 2019-02555 Filed 2-14-19; 8:45 am]

BILLING CODE 4915-01-P